DEPARTMENT OF TRANSPORTATION

National Highway Traffic Safety Administration

49 CFR Part 571

[Docket No. NHTSA-2007-28710]

RIN 2127-AK02

Federal Motor Vehicle Safety Standards; Occupant Crash Protection

AGENCY: National Highway Traffic Safety Administration (NHTSA), Department of Transportation (DOT).

ACTION: Notice of proposed rulemaking (NPRM).

SUMMARY: NHTSA is proposing to amend Federal Motor Vehicle Safety Standard (FMVSS) No. 208, “Occupant crash protection,” to update the child restraint systems (CRSs) listed in Appendix A of the standard. The CRSs in Appendix A are used by NHTSA to test advanced air bag suppression or low risk deployment systems, to ensure that the air bag systems pose no reasonable safety risk to infants and small children in the real world. The amendments proposed today would replace some CRSs listed in Appendix A with CRSs that are more representative of the CRS fleet currently on the market. The agency proposes to delete six existing CRSs and to add five new CRSs. Since the appendix has not been revised since 2003, NHTSA also seeks comment on whether seven other CRSs in the appendix should be replaced with CRSs with essentially the same features but more recently produced.

DATES: You should submit comments early enough to ensure that Docket Management receives them not later than October 25, 2007. If adopted, most of the amendments would be effective for the next model year introduced one year after the publication of a final rule. Optional early compliance would be permitted. See discussion under “Proposed Compliance Dates” section in the preamble of this NPRM.

ADDRESSES: You may submit comments [identified by DOT Docket ID Number 28710] by any of the following methods:

If filing comments by September 27, 2007, please use:

• Web Site: http://dms.dot.gov. Follow the instructions for submitting comments on the Department of Transportation Docket Management System electronic docket site. No electronic submissions will be accepted between September 28, 2007, and October 1, 2007.

If filing comments on or after October 1, 2007, use:

• Federal eRulemaking Portal: Go to http://www.regulations.gov. Follow the online instructions for submitting comments.

Alternatively, you can file comments using the following methods:

• Mail: Docket Management Facility: U.S. Department of Transportation, 1200 New Jersey Avenue, SE., West Building Ground Floor, Room W12-140, Washington, DC 20590-0001.

• Hand Delivery or Courier: West Building Ground Floor, Room W12-140, 1200 New Jersey Avenue, SE., between 9 a.m. and 5 p.m. ET, Monday through Friday, except Federal holidays.

• Fax: 202-493-2251

Instructions: For detailed instructions on submitting comments and additional information on the rulemaking process, see the Public Participation heading of the Supplementary Information section of this document. Note that all comments received will be posted without change to http://www.dms.dot.gov or http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://dms.dot.gov until September 27, 2007, or the street address listed above. The DOT docket may be offline at times between September 28 through September 30 to migrate to the Federal Docket Management System (FDMS). On October 1, 2007, the Internet access to the docket will be at http://www.regulations.gov. Follow the online instructions for accessing the dockets.

FOR FURTHER INFORMATION CONTACT: Ms. Carla Cuentas, Office of Crashworthiness Standards, Light Duty Vehicle Division (telephone 202-366-4583, fax 202-493-2739). For legal issues, contact Ms. Deirdre Fujita, Office of Chief Counsel (telephone 202-366-2992, fax 202-366-3820). You may send mail to these officials at the National Highway Traffic Safety Administration, U.S. Department of Transportation, 1200 New Jersey Avenue, SE., West Building, Washington, DC 20590.

SUPPLEMENTARY INFORMATION:

Table of Contents

I. Background

II. In Deciding To Update Appendix A

a. Guiding Factors

b. Child Restraint Data

c. Additional Considerations

1. Seat Back Height

2. Handles and Sunshields

3. Non-LATCH Child Restraints

III. Proposed Changes

a. Deletions

1. Deletion of the Britax Handle With Care 191 From Subpart B

2. Deletion of the Century Assura 4553 From Subpart B

3. Deletion of the Century (Graco) Encore 4612 From Subpart C

4. Deletion of the Cosco Olympian 02-803 and the Safety First Comfort Ride 22-400 From Subpart C

5. Deletion of the Britax Expressway ISOFIX From Subpart C

b. Additions

1. Addition of the Graco Snugride #8643 to Subpart B

2. Addition of the Peg Perego Primo Viaggio #IMCC00US to Subpart B

3. Addition of the Cosco Summit Deluxe #22-260 to Subpart C

4. Addition of the Graco SafeSeat (Step 2) #8B02 to Subpart C

5. Addition of the Evenflo Generations #352 to Subpart C

c. Updating Other CRSs in Appendix A

IV. Proposed Compliance Dates

V. Clarity of the Tables in Appendix A

VI. Public Participation

VII. Rulemaking Analyses and Notices

I. Background

Federal Motor Vehicle Safety Standard (FMVSS) No. 208, “Occupant crash protection” (49 CFR 571.208), requires light passenger vehicles to be equipped with safety belts and frontal air bags for the protection of vehicle occupants in crashes. While air bags have been very effective in protecting people in moderate and high speed frontal crashes, there have been instances in which they have caused serious or fatal injuries to occupants who were very close to the air bag when it deployed. On May 12, 2000, NHTSA published a final rule to require that future air bags be designed to create less risk of serious air bag-induced injuries than current air bags and provide improved frontal crash protection for all occupants, by means that include advanced air bag technology (“Advanced Air Bag Rule,” 65 FR 30680, Docket No. NHTSA 00-7013). Under the Advanced Air Bag Rule, to minimize the risk to infants and small children from deploying air bags, manufacturers may suppress an air bag in the presence of a child restraint system (CRS) or provide a low risk deployment (LRD) system.¹

¹ The LRD option involves deployment of the air bag in the presence of a Child Restraint Air Bag Interaction (CRABI) test dummy, representing a 12-month-old child, in a rear-facing child restraint.

To minimize the risk to children, manufacturers choosing to rely on an air bag suppression system or LRD system must ensure that the vehicle complies with the suppression or LRD requirements when tested with the CRSs specified in Appendix A of the standard. As part of ensuring the robustness of automatic air bag suppression and LRD systems, NHTSA made sure that the appendix contained CRSs that represented a large portion of the CRS market and CRSs with unique size and weight characteristics. NHTSA also planned regular updates to Appendix A.

On November 19, 2003, in response to petitions for reconsideration of the May 2000 Advanced Air Bag Rule, the agency published a final rule that revised Appendix A by adding two CRSs that were equipped with components that attach to a vehicle's LATCH ² system (68 FR 65179, Docket No. NHTSA 03-16476). Since September 1, 2002, CRSs have been required by FMVSS No. 213, Child Restraint Systems (49 CFR § 571.213), to have permanently-attached components that enable the CRS to connect to a LATCH system on a vehicle. The addition of these “LATCH-equipped” CRSs to Appendix A was meant to keep the appendix up-to-date in reflecting current CRS designs.³

² “LATCH” stands for “Lower Anchors and Tethers for Children,” a term that was developed by child restraint manufacturers and retailers to refer to the standardized child restraint anchorage system that vehicle manufacturers must install in vehicles pursuant to FMVSS No. 225, Child Restraint Anchorage Systems (49 CFR 571.225). The LATCH system is comprised of two lower anchorages and one tether anchorage. Each lower anchorage is a rigid round rod or bar onto which the connector of a child restraint system can be attached. FMVSS No. 225 does not permit vehicle manufacturers to install LATCH systems in front designated seating positions unless the vehicle has an air bag on-off switch meeting the requirements of S4.5.4 of FMVSS No. 208.

³ The compliance date for the provision specifying testing with LATCH-equipped CRSs is September 1, 2008. Earlier dates were delayed (69 FR 51598, Docket 18905; 71 FR 51129, Docket 21244) because test procedures were not in place in FMVSS No. 208 to install LATCH-equipped CRSs in a repeatable manner until this year.

CRSs in Appendix A

Appendix A is made up of four (4) subparts, subparts A through D.

• Subpart A lists a car bed that can be used by the agency to test the suppression system of a vehicle that is manufactured on or after the effective date specified in Appendix A and that has been certified as being in compliance with 49 CFR 571.208, S19.

• Subpart B lists rear-facing CRSs that can be used by the agency to test the suppression system or the low risk deployment capabilities of a vehicle that is manufactured on or after the effective date and prior to the termination date specified in the appendix and that has been certified as being in compliance with 49 CFR 571.208, S19.

• Subpart C lists forward-facing toddler and forward-facing convertible ⁴ CRSs that can be used by the agency to test the suppression system or the low risk deployment capabilities of a vehicle that is manufactured on or after the effective date and prior to the termination date specified in the appendix and that has been certified as being in compliance with 49 CFR 571.208, S19 or S21.

⁴ A convertible CRS is one that converts from a rear-facing seat to a forward-facing seat. A combination CRS is one that converts from a forward-facing seat to a booster seat or a CRS that is a convertible that can also be used as a booster.

• Subpart D lists forward-facing toddler/belt positioning booster systems and belt positioning booster systems that can be used by the agency to test the suppression system capabilities of a vehicle that is manufactured on or after the effective date and prior to the termination date specified in the appendix and that has been certified as being in compliance with 49 CFR 571.208, S21 or S23.

There are one (1) car bed, seven (7) rear-facing child restraint systems, nine (9) forward-facing toddler and forward-facing convertible CRSs ⁵ and four (4) forward-facing toddler/belt positioning booster systems currently listed and deemed “effective” (i.e., may be used in compliance testing) in Appendix A.

⁵ Two of these nine forward-facing toddler and forward-facing convertible CRSs are effective on September 1, 2008.

II. In Deciding To Update Appendix A

a. Guiding Factors

The November 2003 FMVSS No. 208 final rule discussed factors that the agency considers in deciding whether Appendix A should be updated (68 FR at 65188). NHTSA reviews the appendix to: Maintain a spectrum of CRSs that is representative of the CRS population in production, ensure that only relatively current restraints will be used for compliance testing, determine the availability of the CRSs and determine any change in design, other than those that are purely cosmetic. (If a change to a CRS were clearly cosmetic, such as color scheme or upholstery, the list would not be modified.) ⁶ In considering whether a particular restraint should be in Appendix A, the agency considers whether the restraint—

⁶ We also stated that, in considering whether to amend the appendix, we assess whether a variety of restraint manufacturers are represented in the appendix, and whether a combination of restraints are in the appendix. Id.

—Has mass and dimensions representative of many restraints on the market,

—Has mass and dimensions representing outliers, and

—Has been a high sales volume model.

NHTSA evaluated data, discussed in the next section, and undertook a systematic evaluation of the CRSs in Appendix A. We assessed child restraint system dimensions, weight (mass) and sales volumes (based on confidential manufacturers' data) to identify which CRSs have dimensions that were representative of the average restraint in today's market, and which were possible outliers, with dimensions, weight ⁷ and/or footprints ⁸ markedly outside of those of the “average” CRS. In addition, the agency identified which CRSs had high production totals and, therefore, likely to have the greatest market share (highest sales volume).

⁷ Since the CRSs are used to test air bag suppression systems, it was important to identify which CRSs were the lightest and heaviest, and those that are representative of the average restraint in today's market in terms of weight.

⁸ Some air bag suppression systems may have trouble sensing a CRS if the footprint is shaped in a way that loads the air bag suppression system sensors or load cells differently than the CRSs for which the suppression system was designed to recognize.

b. Child Restraint Data

The data used for today's NPRM were obtained from CRS manufacturers and NHTSA's Ease-of-Use (EOU) consumer information program. The agency's EOU program started in 2002 in response to the Transportation Recall Enhancement, Accountability, and Documentation (TREAD) Act, which directed NHTSA to issue a notice to establish a child restraint safety rating consumer information program to provide practicable, readily understandable, and timely information to consumers for use in making informed decisions in the purchase of child restraints. The EOU program encourages CRS manufacturers to produce child restraints with features that make it easier for consumers to use and install correctly. The EOU program seeks to evaluate all CRSs available for sale at retail outlets.

The 2006 EOU program assessed 99 different CRSs (including carryover seats from the previous year that were not changed), selected from 14 different manufacturers (Docket 25344). In addition to those 99 CRSs, data for the CRSs currently listed in Appendix A were also collected during the 2006 EOU program. These data were used to determine whether any changes to the appendix were warranted.

c. Additional Considerations

The agency also considered the following factors in considering changes to Appendix A. NHTSA is interested in comments on the agency's deliberations.

1. Seat Back Height

Automatic air bag suppression systems suppress the air bag when a child or a child in a CRS is placed on the seat, and enable the air bag's deployment if an adult occupies the seat. The threshold for enabling the air bag's deployment is dependent on the design and calibration of the suppression system used. The agency developed Appendix A to include CRSs with a gamut of features that would robustly assess vehicle suppression technologies.

With LRD systems for infants already being used in some vehicles, the agency sought to include, in Subpart B of Appendix A, rear-facing child restraints of varying seat back heights. It seemed especially prudent to have CRSs with low seat back heights. For rear-facing CRSs with relatively low seat back heights, an air bag mounted on the top of the instrument panel may not encounter any reaction surface (resistance) from the CRS seat back, so the air bag could be allowed to fully pressurize. In the real world, the deploying air bag—whose energy was not lowered because it encountered a CRS with the low seat back—may interact in a fully energized state with the child's head as the bag comes over the top of the CRS seat back. NHTSA sought to ensure that the CRSs in Subpart B would ensure that children would not be subjected to unreasonable safety risks from LRD systems. We included in Appendix A rear-facing and convertible CRSs with seat back heights that range from 12.75 to 27 in.9 10 The rear-facing CRSs we are proposing to add to the appendix diversify the spectrum of seat back heights.

⁹ The upper end of the spectrum (27 in) represents convertible CRSs, which have higher seat back heights than rear-facing-only CRSs.

¹⁰ The height measurement used for the rear-facing CRSs is the height with their base.

2. Handles and Sunshields

Features such as handles and sunshields of a rear-facing CRS may complicate and challenge the sensing operation of advanced air bag systems. To ensure that advanced air bags perform well with all types of rear-facing CRSs, we believe that the systems should be tested with rear-facing CRSs that have handles and sunshields. All rear-facing CRSs currently listed in the appendix have handles, and five (5) of the seven (7) rear-facing CRSs in the appendix have sunshields. The two rear-facing seats we are proposing to add to the appendix both have handles and sunshields. (We intend to adjust the handles and sunshields to the positions specified in the standard to ensure the robustness of the advanced air bag system.)

3. Non-LATCH Child Restraints

Today's NPRM would replace some of the older non-LATCH CRSs in Appendix A with new LATCH-equipped CRSs. At the time of the November 19, 2003 final rule, the agency decided against replacing all the restraints with new LATCH restraints because it was thought at the time that such an amendment would have been a drastic change and would fail to account for the non-LATCH seats that were still being widely used. For today's NPRM, we did not find overriding reasons for retaining the non-LATCH CRSs we are proposing to delete in this NPRM. When the LATCH requirement became effective in 2002 for child restraints, it does not appear that CRS manufacturers changed CRS structures or designs. Accordingly, when tested in a condition where the LATCH restraints are not attached to the vehicle, both suppression and LRD systems would react to LATCH and non-LATCH CRSs similarly.

III. Proposed Changes

After considering the factors for decision-making discussed in the previous section of this preamble, we made tentative decisions about which CRSs should be replaced in Appendix A and which should remain. The following sections will discuss our proposed deletions and additions, along with corresponding rationale for these proposals.¹¹ Some CRSs undergo annual cosmetic changes that result in different model numbers for the new version. We are aware of one CRS that we are proposing to add that will likely change model numbers before the publication of a final rule. Therefore, the model numbers of CRSs in this NPRM will be reviewed and updated to reflect the latest information available from CRS manufacturers prior to publication of a final rule.

¹¹ We noted in the November 2003 FMVSS No. 208 final rule that our periodic review of the child restraints in the appendix may cause the number of CRSs contained therein to change slightly as we identify different trends in the use of CRSs from prior periods. We believed that the number of CRSs should not vary by more than 10-20 percent absent any dramatic changes in the design of restraints.

The agency proposes to delete six (6) existing CRSs and to add five (5) new CRSs. Below is Table 1 summarizing the proposed changes to the appendix.

Table 1.—Summary of Proposed Deletions and Additions to Appendix A
Name | Type | Appendix subpart
DELETIONS
Britax Handle With Care #191 | Rear-Facing | B
Century Assura #4553 | Rear-Facing | B
Century Encore #4612 | Convertible | C
Cosco Olympian #02803 | Convertible | C
Safety 1st Comfort Ride #22-400 | Convertible | C
Britax Expressway ISOFIX | Forward-Facing | C
ADDITIONS
Graco Snugride | Rear-Facing | B
Peg Perego Viaggio #IMCC00US | Rear-Facing | B
Cosco Summit DX #22-260 | Forward-Facing | C
Evenflo Generations #352 | Convertible | C
Graco Safeseat (Step 2) | Combination | C

a. Deletions

Our proposed deletions were based generally on which CRSs did not offer any unique characteristics, those that were produced in the smallest quantities, or those that have not been in production for some time. If we eliminated a CRS that offered a unique characteristic, we made an attempt to replace it with a similar CRS.

1. Deletion of the Britax Handle With Care 191 From Subpart B

The Britax Handle with Care 191 was one of the original CRSs listed in the appendix. The Handle with Care 191 is a rear-facing infant restraint seat with a five-point harness and no base. Because it is not LATCH-compatible, Britax discontinued this CRS on September 1, 2002 with the introduction of LATCH systems. Of all the rear-facing CRSs in Appendix A, it was the lightest (7.9 lb) and the CRS with the lowest production total. Some consumer Web sites report that few consumers purchased this CRS due to it not having a base and its high cost.¹²

¹² http://www.windsorpeak.com/babybargains/bonus10.html and http://www.epinions.com/kifm-review-79DA-ACFDDA7-39C15E10-prod1.

After considering these findings, we tentatively conclude that this CRS is not representative of today's CRS fleet, nor does it offer any unique characteristics that are not already adequately represented in other seats remaining in or being added to the appendix (it is not an outlier). Accordingly, we propose its deletion from Appendix A.

2. Deletion of the Century Assura 4553 From Subpart B

The Century Assura 4553 rear-facing CRS is representative of CRSs in today's market. However, there are CRSs on the appendix with similar characteristics which are more available than this CRS. This CRS was discontinued in 2002 and relatively few were ever produced. It became apparent during the collection of data for the CRSs currently in the appendix that the Century Assura was the same CRS as the Century Smart Fit minus the base. Accordingly, we tentatively conclude that this CRS should be deleted from Appendix A.

3. Deletion of the Century (Graco) Encore 4612 From Subpart C

Graco discontinued this convertible CRS in 2001. Very few of these units were ever produced relative to other convertible CRSs. This CRS offers no unique dimensional or weight (mass) characteristics nor does it have a unique footprint when compared to other CRSs in the appendix. Therefore, we propose deleting this CRS from Subpart C of the appendix.

4. Deletion of the Cosco Olympian 02-803 and the Safety First Comfort Ride 22-400 From Subpart C

Each of the Cosco Olympian 02-803 and the Safety First Comfort Ride 22-400 is a convertible CRS with a 5-point harness. It became apparent during the collection of data for the CRSs currently in the appendix that the Cosco Touriva 02-519, Cosco Olympian 02-803, and Safety 1st Comfort Ride 22-400 were the same CRS with minor cosmetic changes. After confirming this with Dorel Juvenile Group (DJG), the manufacturer of the restraints, it was determined that these three CRSs came from the same manufacturing shell and were just cosmetically altered. To eliminate the redundancy in Appendix A testing, we propose deleting from the appendix the two CRSs with the lowest production totals, which would be the Cosco Olympian and the Safety 1st Comfort Ride.

5. Deletion of the Britax Expressway ISOFIX From Subpart C

Although located in Subpart C of Appendix A, the Britax Expressway ISOFIX is a forward-facing only CRS and not a convertible. This child restraint was one of the two LATCH-equipped CRSs added by the November 19, 2003, FMVSS No. 208 final rule. On March 20, 2006, the Alliance petitioned NHTSA to remove the Britax Expressway CRS from Appendix A, arguing that the CRS is no longer available on the market, few were sold, and because its inclusion is inconsistent with the principles and criteria that the agency announced that it would use to select CRSs for Appendix A.¹³ NHTSA has denied the Alliance's petition (NHTSA Docket 28707), stating that NHTSA would rather take a comprehensive evaluation of the CRSs in Appendix A in deciding whether the Britax Expressway ISOFIX should be included in the appendix, rather than focus solely on the one CRS alone. Today's NPRM is a result of the agency's comprehensive evaluation of Appendix A.

¹³ The Alliance also stated that there is ambiguity relating to this CRS because when it was added to the appendix there were discrepancies in the final regulatory text. First, the agency placed this CRS in Section C even though it is not a convertible CRS. In the final rule dated August 20, 2004 (69 FR 51602) we stated that, “Consistent with the goal of reflecting real world misuse, we will test the Britax ISOFIX Expressway in both directions.” Second, when it was added to the appendix, this CRS was listed as the “Britax Expressway ISOFIX,” yet in the August 20, 2004 final rule, when we amended Subpart C and Subpart D to describe more accurately the CRSs that are in those subparts, we listed this CRS as the “Britax Expressway.” This caused confusion because in the preamble of the 2004 final rule, it was still referred to as the “Britax Expressway ISOFIX,” and NHTSA never made a technical correction that explained that we inadvertently dropped the ISOFIX designation in the 2004 final rule regulatory text.

After analyzing the data collected on the Britax Expressway ISOFIX, we determined that there are several factors that argue that the CRS should be maintained in the appendix. First, with respect to mass and dimensions, this CRS could be considered an outlier and thus a potential challenge to suppression systems. It is the heaviest forward-facing CRS listed in the appendix (18.6 lb with the base). It also has a wide flat base that gives it a large footprint. It has the highest base outer width measurement of the 9 forward-facing CRSs listed (13 in). Finally, it has a unique rigid LATCH design, i.e., it uses rigid, fixed metal components rather than a flexible strap to attach the CRS to the vehicle's LATCH lower anchors.

At the same time, however, there are factors that have resulted in our tentative decision to remove this CRS from the appendix. In terms of sales, this CRS was never a high sales volume model. The Alliance's March 2006 petition states that only several hundred units were imported into the U.S., the majority of which were used for testing and evaluation purposes, not for retail sale. Furthermore, this CRS is no longer available for distribution. The agency has also tentatively determined that it would be acceptable to remove the Britax Expressway ISOFIX from the appendix because, at its extremely low sales volume, the CRS is not reasonably represented on the road today. Even as a dimensional and weight outlier, its inclusion is not warranted at such an insignificant level of field presence. For the reasons given above, we propose deleting the Britax Expressway ISOFIX from Appendix A. Furthermore, in this NPRM, the agency is proposing to add a CRS of similarly heavy weight and another that has a similarly large footprint to the appendix. Thus, these outlier characteristics are being maintained in the appendix with seats that are much more widely available.

b. Additions

We sought to include more LATCH-equipped CRSs in the appendix, while recognizing that testing and compliance burdens are impacted each time a CRS in the appendix is changed. Including more LATCH CRSs is believed to be necessary since we had not modified the appendix since November 2003 and only two CRSs listed in the appendix have LATCH attachments, while all CRSs manufactured after September 1, 2002 have been required to have LATCH attachments.

1. Addition of the Graco Snugride #8643 to Subpart B

The Graco Snugride is a rear-facing infant CRS, with a detachable base, flexible LATCH attachments and a 5-point safety harness. This CRS is extremely popular and is one of the highest produced rear-facing CRSs in the U.S. It is also among the lightest rear-facing CRSs in the 2006 EOU program. The weight of the Snugride is 11.2 lb with its base (compared to an average weight of 12.1 lb for rear-facing CRSs in the 2006 EOU program) and 6.1 lb without its base (compared to the average weight of 7.7 lb for similar seats in the 2006 EOU program). We tentatively conclude that the Graco Snugride would be a good replacement for the Britax Handle with Care in terms of its light weight.

Its height and width dimensions make the Snugride representative of the average rear-facing CRS in today's market. The average height and average outer base width dimensions for the rear-facing CRSs, with bases, in the 2006 EOU program are 17.9 in and 10.7 in, respectively. The height and outer base width dimensions of the Graco Snugride with its base are 16 in and 10.5 in, respectively. Because the Snugride appears to be representative of today's CRS fleet, we propose adding it to Subpart B of Appendix A.

2. Addition of the Peg Perego Primo Viaggio #IMCC00US to Subpart B

The Peg Perego Primo Viaggio is a rear-facing infant CRS, with a detachable base, flexible LATCH attachments and a 5-point safety harness. It weighs 18.8 lb with its base and 11.2 lb without its base, making it heavier than any of the rear-facing CRSs currently listed in the appendix ¹⁴ and is significantly heavier than the average rear-facing CRSs in the 2006 EOU program (12.1 lb with the base and 7.7 lb without the base). Its base depth and width dimensions (19 in and 15.5 in, respectively) are significantly larger than the average base depth and width of the rear-facing CRSs in the 2006 EOU program (12.8 in and 11.7 in, respectively). For testing purposes, this CRS is also noteworthy because of the flatness of its footprint (see Technical Assessment, in docket for this NPRM). Its footprint appears unique among rear-facing CRSs in the EOU data.

¹⁴ The heaviest CRS currently in the appendix is the Britax Expressway ISOFIX that weighs 18.6 lb. The heaviest rear-facing CRS in the appendix is the Century SmartFit that weighs 10.6 lb.

Based on our analysis of the data, we believe that this CRS is somewhat of an outlier in terms of its dimensions and by having a unique footprint. Therefore, we propose adding this restraint to Subpart B of Appendix A.

3. Addition of the Cosco Summit Deluxe #22-260 to Subpart C

The Cosco Summit Deluxe is a forward-facing-only combination CRS with flexible LATCH attachments and a 5-point safety harness. It weighs 15.2 lb, which is just slightly over the 14 lb average weight of the forward-facing CRSs in the 2006 EOU program. It is 28.5 in tall, making it taller than any of the forward-facing CRSs currently in the appendix, the tallest of which is the Evenflo Horizon V at 27 in. The Cosco Summit Deluxe also has a large base with a width of 19.5 in and a depth of 18 in. This base width and depth measurements are significantly wider and deeper than the average base width and depth for the forward-facing CRSs in the 2006 EOU program (12.8 in and 14.9 in, respectively). After consideration of these factors, we tentatively conclude that this CRS would be a good replacement for the Britax Expressway ISOFIX in terms of its wide base and height. Therefore, we propose including the Cosco Summit Deluxe in Subpart C of Appendix A.

4. Addition of the Graco SafeSeat (Step 2) #8B02 to Subpart C

The Graco SafeSeat (Step 2) is a forward-facing only CRS with flexible LATCH attachments and a 5-point safety harness. It is among the heavier forward-facing CRSs on the market. It weighs 21 lb (the average weight of the forward-facing CRSs in the 2006 EOU program is 14 lb). Its height, base width, and base depth measurements are 27.5 in, 15.5 in, and 15 in respectively, compared to the average height, base width, and base depth of 26 in, 12.8 in, and 14.9 in, respectively, for the forward-facing CRSs in the 2006 EOU program. As shown in the technical assessment accompanying this NPRM, the SafeSeat (Step 2) has a unique base configuration because of its relative flatness, and thus has a unique footprint. There are no forward-facing CRSs currently listed on the appendix with a similar footprint, and there would be no remaining forward-facing-only CRSs if the Britax Expressway ISOFIX were to be removed from the appendix. Based on our analysis, we tentatively conclude that this CRS is somewhat of an outlier because of its weight and unique footprint. We believe that if the Britax Expressway ISOFIX were deleted, a CRS with a similar or heavier weight should be added, and that this CRS appears to meet that need. Therefore, we propose adding the Graco SafeSeat (Step 2) to Subpart C of Appendix A.

5. Addition of the Evenflo Generations #352 to Subpart C

The Evenflo Generations is a convertible CRS, with flexible LATCH attachments, and a 5-point safety harness. It is among the lighter forward-facing CRSs in today's market. It weighs 11.7 lb (the average weight of the forward-facing CRSs in the 2006 EOU program is 14 lb). Its height (25 in), base width (10.75 in), and base depth (26 in) appear to be representative of the average height (26 in), base width (12.8 in), and base depth (14.9 in) of the forward-facing CRSs in the 2006 EOU program. Its footprint appears to be unique, as shown in the docketed technical assessment. Also, the footprint in the forward-facing mode is different than the footprint in the rear-facing mode. Because this CRS appears to be an outlier due to its low weight and unique footprint, we propose adding the Evenflo Generations to Section C of Appendix A.

c. Updating Other CRSs in Appendix A

Comments are requested on changing other CRSs in Appendix A. Mindful of compliance burdens and the agency's statement in the September 2003 final rule that NHTSA anticipates changing not more than 10-20 percent of the CRSs in Appendix A in periodic updates of the appendix, these changes are of secondary importance to us compared to the proposed changes of the previous sections, and primarily would simply update the older CRSs in the appendix with newer model CRSs that have the same main physical features as the older restraints. However, it has been nearly 4 years since Appendix A was changed, and with many of the CRSs in the appendix no longer for sale and hard to find, NHTSA would like to take this opportunity to ask for comments on the possible updates to the CRSs as listed in the table below (see technical assessment for data and pictures) and the compliance burdens associated with making these additional changes to Appendix A.

To obtain information on whether CRSs in Appendix A could be replaced by newer, more available models with the same relevant physical features as the Appendix A child restraints, we contacted each manufacturer of the listed CRS and asked which of their more recently-produced CRS could be considered an equivalent replacement for the Appendix A CRS. With one exception discussed below related to the Cosco Dream Ride car bed, manufacturers were able to suggest a possible replacement. (The technical assessment lists the Appendix A replacement CRSs identified by the CRS manufacturers.) With this information on possible replacement CRSs for Appendix A, we decided that the CRSs in the Appendix that have been out of production the longest (i.e., the hardest CRSs to acquire for testing purposes) should be ones we first replace with newer-model CRSs. Those CRSs which we are considering replacing with the newer-model restraints are set forth below in Table 2 for comment. If the comments on this issue indicate that making these updates in this rulemaking is warranted, we could include these additional changes to Appendix A in the final rule following today's NPRM.

Table 2.—CRSs That Could Be Replaced With Similar, More Recently-Produced Restraints, and What Those Replacements Should Be
Appendix A subpart | CRS in Appendix A | Type of CRS | Replacement
A | Cosco Dream Ride | Car bed | Angel Guard Angel Ride #AA2403FOF.
B | Cosco Arriva 02-727 | Rear-facing | Cosco Arriva #22-013.
C | Britax Roundabout | Convertible | Britax Roundabout #E9L02.
C | Century Encore | Convertible | Graco ComfortSport.
C | Evenflo Horizon V | Convertible | Evenflo Tribute 5 Deluxe #379.
D | Century Next Step | Combination | Graco Cherished Cargo.
D | Cosco High Back Booster | Booster | Cosco Hi Back Booster #22-209.

Cosco Dream Ride Car Bed (Subpart A)

Subpart A of the appendix lists a car bed, the Cosco Dream Ride, which is no longer being manufactured for retail sale. Cosco was unable to suggest a replacement for this CRS because the manufacturer no longer sells car beds to the general public (the CRS is manufactured and sold mainly for special needs accounts). After consulting with the major CRS manufacturers, we only found one additional car bed that is being manufactured. We are proposing this latter one as our replacement choice because it is being made available to the general public. NHTSA seeks comments on replacing the Cosco Dream Ride with the Angel Guard Angel Ride. Measurements and pictures of this CRS are set forth in the technical assessment.

IV. Proposed Compliance Dates

Consistent with statements NHTSA made in the November 19, 2003 FMVSS No. 208 final rule regarding lead time (68 FR at 65188), the agency proposes that (except as noted below for the Britax Expressway ISOFIX) the compliance date for the proposed changes to Appendix A be the next model year introduced one year after publication of a final rule modifying Appendix A. The lead time would be sufficiently long to provide vehicle manufacturers time to procure the needed child restraints, test vehicles, and certify the air bag systems to FMVSS No. 208, while ensuring the satisfactory performance of vehicles' suppression and LRD systems in an expeditious manner.

Regarding the Britax Expressway ISOFIX, we have tentatively determined this CRS to be exceptionally uncommon in the U.S. and very difficult to obtain. For those reasons, we propose that this CRS be removed from Appendix A effective on the date of publication of the final rule.

This NPRM also proposes to permit manufacturers the option of early compliance with the amended list, i.e., they may choose to certify their vehicles with the updated Appendix A prior to the effective date of the provision, as long as the manufacturer notifies the agency that it is exercising this option. However, NHTSA proposes that manufacturers choosing the early compliance option would not be permitted to pick and choose among the CRSs that would be newly added by the final rule. Vehicle manufacturers choosing the early compliance option would have to ensure that their vehicles meet the advanced air bag requirements when NHTSA uses all of the newly-added CRSs (along with the CRSs that were not affected by the amendment); they may not certify with some, but not all of the newly-added restraints. The reason for this limitation would be to maintain the integrity of the appendix. The Appendix A CRSs are each a part of a comprehensive set. Each CRS in the appendix was selected for a reason, meeting a need not met by other CRSs in the appendix. Picking and choosing among the CRSs could leave a need unmet and an important performance aspect of an advanced air bag system unexplored.

V. Clarity of the Tables in Appendix A

This NPRM would reformat the tables of Appendix A to improve the clarity and simplicity of the tables. NHTSA believes that the current format of the tables might not be optimal in reflecting future and more frequent updates to the Appendix. Comments are requested on how the plain meaning of the tables could be further improved.

VI. Public Participation

How do I prepare and submit comments?

Your comments must be written and in English. To ensure that your comments are correctly filed in the Docket, please include the docket number of this document in your comments.

Your comments must not be more than 15 pages long. (49 CFR 553.21.) We established this limit to encourage you to write your primary comments in a concise fashion. However, you may attach necessary additional documents to your comments. There is no limit on the length of the attachments.

Please submit two copies of your comments, including the attachments, to Docket Management at the address given above under ADDRESSES.

Comments may also be submitted to the docket electronically by logging onto the Docket Management System Web site at http://dms.dot.gov. Click on “Help & Information” or “Help/Info” to obtain instructions for filing the document electronically. If you are submitting comments electronically as a PDF (Adobe) file, we ask that the documents submitted be scanned using Optical Character Recognition (OCR) process, thus allowing the agency to search and copy certain portions of your submissions.¹⁵

¹⁵ Optical character recognition (OCR) is the process of converting an image of text, such as a scanned paper document or electronic fax file, into computer-editable text.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html. DOT's guidelines may be accessed at http://dmses.dot.gov/submit/DataQualityGuidelines.pdf.

How can I be sure that my comments were received?

If you wish Docket Management to notify you upon its receipt of your comments, enclose a self-addressed, stamped postcard in the envelope containing your comments. Upon receiving your comments, Docket Management will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

Will the agency consider late comments?

We will consider all comments that Docket Management receives before the close of business on the comment closing date indicated above under DATES. To the extent possible, we will also consider comments that Docket Management receives after that date. If Docket Management receives a comment too late for us to consider in developing a final rule (assuming that one is issued), we will consider that comment as an informal suggestion for future rulemaking action.

How can I read the comments submitted by other people?

You may read the comments received by Docket Management at the address given above under ADDRESSES. The hours of the Docket are indicated above in the same location. You may also see the comments on the Internet. To read the comments on the Internet, take the following steps:

(1) Go to the Docket Management System (DMS) Web page of the Department of Transportation (http://dms.dot.gov/).

(2) On that page, click on “Simple Search.”

(3) On the next page (http://dms.dot.gov/search/), type in the four-digit docket number shown at the beginning of this document. Example: If the docket number were “NHTSA-2007-1234,” you would type “1234.” After typing the docket number, click on “Search.”

(4) On the next page, which contains docket summary information for the docket you selected, click on the desired comments. You may download the comments. However, since the comments are imaged documents, instead of word processing documents, the downloaded comments are not word searchable.

Please note that even after the comment closing date, we will continue to file relevant information in the Docket as it becomes available. Further, some people may submit late comments. Accordingly, we recommend that you periodically check the Docket for new material.

VII. Rulemaking Analyses and Notices

Executive Order 12866 and DOT Regulatory Policies and Procedures

This rulemaking document was not reviewed by the Office of Management and Budget under E.O. 12866. It is not considered to be significant under E.O. 12866 or the Department's Regulatory Policies and Procedures (44 FR 11034; February 26, 1979). The costs and benefits of advanced air bags are discussed in the agency's Final Economic Assessment for the May 2000 final rule (Docket 7013). The cost and benefit analysis provided in that document would not be affected by this NPRM, since this NPRM only adjusts and updates the CRSs used in test procedures of that final rule. The minimal impacts of today's amendment do not warrant preparation of a regulatory evaluation.

Regulatory Flexibility Act

In compliance with the Regulatory Flexibility Act, 5 U.S.C. 601 et seq., NHTSA has evaluated the effects of this action on small entities. I hereby certify that this proposed rule would not have a significant impact on a substantial number of small entities. The NPRM would affect motor vehicle manufacturers, multistage manufacturers and alterers, but the entities that qualify as small businesses would not be significantly affected by this rulemaking because they are already required to comply with the advanced air bag requirements. This final rule does not establish new requirements, but instead only adjusts and updates the CRSs used in test procedures of that final rule.

Executive Order 13132

NHTSA has examined today's NPRM pursuant to Executive Order 13132 (64 FR 43255, August 10, 1999) and concluded that no additional consultation with States, local governments or their representatives is mandated beyond the rulemaking process. The agency has concluded that the rulemaking would not have federalism implications because a final rule, if issued, would not have “substantial direct effects on the States, on the relationship between the national government and the States, or on the distribution of power and responsibilities among the various levels of government.”

Further, no consultation is needed to discuss the preemptive effect of today's rulemaking. NHTSA rules can have preemptive effect in at least two ways. First, the National Traffic and Motor Vehicle Safety Act contains an express preemptive provision: “When a motor vehicle safety standard is in effect under this chapter, a State or a political subdivision of a State may prescribe or continue in effect a standard applicable to the same aspect of performance of a motor vehicle or motor vehicle equipment only if the standard is identical to the standard prescribed under this chapter.” 49 U.S.C. 30103(b)(1). It is this statutory command that preempts State law, not today's rulemaking, so consultation would be inappropriate.

In addition to the express preemption noted above, the Supreme Court has also recognized that State requirements imposed on motor vehicle manufacturers, including sanctions imposed by State tort law, can stand as an obstacle to the accomplishment and execution of a NHTSA safety standard. When such a conflict is discerned, the Supremacy Clause of the Constitution makes their State requirements unenforceable. See Geier v. American Honda Motor Co., 529 U.S. 861 (2000). NHTSA has not outlined such potential State requirements in today's rulemaking, however, in part because such conflicts can arise in varied contexts, but it is conceivable that such a conflict may become clear through subsequent experience with today's standard and test regime. NHTSA may opine on such conflicts in the future, if warranted. See id. at 883-86.

National Environmental Policy Act

NHTSA has analyzed this NPRM for the purposes of the National Environmental Policy Act. The agency has determined that implementation of this action would not have any significant impact on the quality of the human environment.

Paperwork Reduction Act

Under the procedures established by the Paperwork Reduction Act of 1995, a person is not required to respond to a collection of information by a Federal agency unless the collection displays a valid OMB control number. This NPRM would not establish any new information collection requirements.

National Technology Transfer and Advancement Act

Under the National Technology Transfer and Advancement Act of 1995 (NTTAA) (Pub. L. 104-113), “all Federal agencies and departments shall use technical standards that are developed or adopted by voluntary consensus standards bodies, using such technical standards as a means to carry out policy objectives or activities determined by the agencies and departments.” There are no voluntary consensus standards that address the CRSs that should be included in Appendix A.

Executive Order 12988

With respect to the review of the promulgation of a new regulation, section 3(b) of Executive Order 12988, “Civil Justice Reform” (61 FR 4729, February 7, 1996) requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) adequately defines key terms; and (6) addresses other important issues affecting clarity and general draftsmanship under any guidelines issued by the Attorney General. This document is consistent with that requirement.

Pursuant to this Order, NHTSA notes as follows. The preemptive effect of this proposed rule is discussed above. NHTSA notes further that there is no requirement that individuals submit a petition for reconsideration or pursue other administrative proceedings before they may file suit in court.

Unfunded Mandates Reform Act

The Unfunded Mandates Reform Act of 1995 requires agencies to prepare a written assessment of the costs, benefits and other effects of proposed or final rules that include a Federal mandate likely to result in the expenditure by State, local or tribal governments, in the aggregate, or by the private sector, of more than $100 million annually (adjusted for inflation with base year of 1995). This NPRM would not result in expenditures by State, local or tribal governments, in the aggregate, or by the private sector in excess of $100 million annually.

Executive Order 13045

Executive Order 13045 (62 FR 19885, April 23, 1997) applies to any rule that: (1) Is determined to be “economically significant” as defined under E.O. 12866, and (2) concerns an environmental, health, or safety risk that NHTSA has reason to believe may have a disproportionate effect on children. This rulemaking is not subject to the Executive Order because it is not economically significant as defined in E.O. 12866.

Executive Order 13211

Executive Order 13211 (66 FR 28355, May 18, 2001) applies to any rulemaking that: (1) Is determined to be economically significant as defined under E.O. 12866, and is likely to have a significantly adverse effect on the supply of, distribution of, or use of energy; or (2) that is designated by the Administrator of the Office of Information and Regulatory Affairs as a significant energy action. This rulemaking is not subject to E.O. 13211.

Plain Language

Executive Order 12866 and the President's memorandum of June 1, 1998, require each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-19478).

List of Subjects in 49 CFR Part 571

Imports, Motor vehicle safety, Motor vehicles, and Tires.

In consideration of the foregoing, NHTSA proposes to amend 49 CFR part 571 as set forth below.

PART 571—FEDERAL MOTOR VEHICLE SAFETY STANDARDS

1. The authority citation for part 571 continues to read as follows:

Authority: 49 U.S.C. 322, 30111, 30115, 30117 and 30166; delegation of authority at 49 CFR 1.50.

2. Section 571.208 is amended by revising items A through D of Appendix A. Figures A1 and A2 at the end of Appendix A are not revised.

The revised text reads as follows:

§ 571.208 Standard No. 208; Occupant crash protection.

* * * * *

Appendix A to § 571.208—Selection of Child Restraint Systems

A. The following car bed, manufactured on or after December 1, 1999, may be used by the National Highway Traffic Safety Administration to test the suppression system of a vehicle that is manufactured on or after the effective date and prior to the termination date specified in the table below and that has been certified as being in compliance with 49 CFR 571.208 S19:

| Effective date | Termination date
Cosco Dream Ride 02-719 | 1/17/2002 | *
* Until further notice, any vehicle manufactured after the effective date specified is still subject to testing with this child restraint system.

B. Any of the following rear-facing child restraint systems, manufactured on or after December 1, 1999, may be used by the National Highway Traffic Safety Administration to test the suppression or low risk deployment (LRD) system of a vehicle that is manufactured on or after the effective date and prior to the termination date specified in the table below and that has been certified as being in compliance with 49 CFR 571.208 S19. When the restraint system comes equipped with a removable base, the test may be run either with the base attached or without the base.

| Effective date | Termination date
Britax Handle with Care 191 | 1/17/2002 | 9/1/2009
Evenflo First Choice 204 | 1/17/2002 | *
Graco Infant 8457 | 1/17/2002 | *
Century Assura 4553 | 1/17/2002 | 9/1/2009
Century Smart Fit 4543 | 1/17/2002 | *
Cosco Arriva 02727 | 1/17/2002 | *
Evenflo Discovery Adjust Right 212 | 1/17/2002 | *
Peg Perego Primo Viaggio IMCC00US | 9/1/2009 | *
Graco Snugride | 9/1/2009 | *
* Until further notice, any vehicle manufactured after the effective date specified is still subject to testing with this child restraint system.

C. Any of the following forward-facing child restraint systems, and forward-facing child restraint systems that also convert to rear-facing, manufactured on or after December 1, 1999, may be used by the National Highway Traffic Safety Administration to test the suppression or LRD system of a vehicle that is manufactured on or after the effective date and prior to the termination date specified in the table below and that has been certified as being in compliance with 49 CFR 571.208 S19, or S21. (Note: Any child restraint listed in this subpart that does not have manufacturer instructions for using it in a rear-facing position is excluded from use in testing in a belted rear-facing configuration under S20.2.1.1(a) and S20.4.2):

| Effective date | Termination date
Century Encore 4612 | 1/17/2002 | 9/1/2009
Cosco Olympian 02803 | 1/17/2002 | 9/1/2009
Britax Roundabout 161 | 1/17/2002 | *
Century STE 1000 4416 | 1/17/2002 | *
Cosco Touriva 02519 | 1/17/2002 | *
Evenflo Horizon V 425 | 1/17/2002 | *
Evenflo Medallion 254 | 1/17/2002 | *
Safety 1st Comfort Ride 22-400 | 9/1/2008 | 9/1/2009
Cosco Summit Deluxe 22-260 | 9/1/2009 | *
Evenflo Generations 352 | 9/1/2009 | *
Graco SafeSeat (Step 2) | 9/1/2009 | *
* Until further notice, any vehicle manufactured after the effective date specified is still subject to testing with this child restraint system.

D. Any of the following forward-facing child restraint systems and belt-positioning seats, manufactured on or after December 1, 1999, may be used by the National Highway Traffic Safety Administration as test devices to test the suppression system of a vehicle that is manufactured on or after the effective date and prior to the termination date specified in the table below and that has been certified as being in compliance with 49 CFR 571.208 S21 or S23:

| Effective date | Termination date
Britax Roadster 9004 | 1/17/2002 | *
Century Next Step 4920 | 1/17/2002 | *
Cosco High Back Booster 02-442 | 1/17/2002 | *
Evenflo Right Fit 245 | 1/17/2002 | *
* Until further notice, any vehicle manufactured after the effective date specified is still subject to testing with this child restraint system.

* * * * *

Issued on September 14, 2007.
Stephen R. Kratzke,
Associate Administrator for Rulemaking.

[FR Doc. E7-18716 Filed 9-24-07; 8:45 am]

BILLING CODE 4910-59-P